DEPARTMENT OF THE INTERIOR

Bureau of Land Management

[LLNVE03000 L51100000.GN0000. LVEMF1201550.241A; NVN-91032; MO# 4500035419; TAS: 14X5017]

Notice of Intent To Prepare an Environmental Impact Statement for the Proposed Long Canyon Mine Project, Elko County, NV

AGENCY: Bureau of Land Management, Interior.

ACTION: Notice of intent.

SUMMARY: In compliance with the National Environmental Policy Act of 1969 (NEPA), as amended, and the Federal Land Policy and Management Act (FLPMA) of 1976, as amended, the Bureau of Land Management (BLM) Wells Field Office, Elko, Nevada, intends to prepare an Environmental Impact Statement (EIS) for the Long Canyon Mine, and by this notice is announcing the beginning of the scoping process to solicit public comments and identify issues.

DATES: This notice initiates the public scoping process for the EIS. Comments on issues may be submitted in writing until September 4, 2012. The date(s) and location(s) of any scoping meetings will be announced at least 15 days in advance through local media, newspapers, and the BLM Web site at: www.blm.gov/rv5c. In order to be included in the Draft EIS, all comments must be received prior to the close of the scoping period. The BLM will provide additional opportunities for public participation upon publication of the Draft EIS.

ADDRESSES: You may submit comments related to the Long Canyon Mine Project by any of the following methods:

• Email: BLM_NV_ELDOLongCanyonMine@blm.gov.

• Fax: 775-753-0385.

• Mail: BLM Elko District Office, Wells Field Office, Attn: Whitney Wirthlin, 3900 E. Idaho Street, Elko, Nevada 89801.

Documents pertinent to this proposal may be examined at the Wells Field Office, 3900 E. Idaho Street, Elko, Nevada, 89801.

FOR FURTHER INFORMATION CONTACT: Whitney Wirthlin, project lead, telephone: 775-753-0342; email: BLM_NV_ELDOLongCanyonMine@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Newmont Mining Corporation (Newmont) proposes to construct and operate an open-pit gold mining operation, which would include one open pit, a heap leach pad, one waste rock dump, a tailings storage facility, and other ancillary facilities. The mine would be located on the eastern side of the Pequop Mountain Range, about 30 miles east of Wells, Nevada, and 32 miles west of West Wendover, Nevada, and 5 miles south of Interstate 80. Currently, Fronteer Development, a subsidiary of Newmont, is authorized to disturb up to 115 acres for exploration purposes. The associated disturbance for the proposed operations would increase to 1,631 acres of public land, including 480 acres of split estate lands of Federal surface and private subsurface. The projected life of the mine is 8 to 14 years, including construction, operations, and closure and post-closure monitoring. An estimated annual workforce for operations would be approximately 300 to 500 people during the life of the mine.

Fronteer is currently conducting exploration activities in this area that were analyzed in two environmental assessments (EA), the NewWest Gold USA Inc. Long Canyon Exploration Project (July 2008, EA No. BLM/EK/PL-2008/011) and Fronteer Development (USA) Inc. Expanded Long Canyon Exploration Project (June 2011, DOI-BLM-NV-N030-2011-00001-EA). The Long Canyon Mine is in conformance with the Wells Resource Management Plan (RMP) and the proposal is in conformance with the approved decisions of the RMP.

The issues identified during scoping will be used to develop a range of alternatives, including a no-action alternative. Mitigation measures will be considered to minimize environmental impacts and to ensure the proposed action does not result in unnecessary or undue degradation of public lands.

The purpose of the public scoping process is to determine relevant issues that will influence the scope of the environmental analysis, including alternatives, and guide the process for developing the EIS. At present, the BLM has identified the following preliminary issues:

(a) Potential effects to archaeological resources in the area;

(b) Potential effects to greater sage-grouse posed by the proximity to an active sage-grouse lek;

(c) Potential effects to viewshed in and around areas of Visual Resources Management Classes I through IV;

(d) Potential impacts to the water supply of Wendover, Utah, and West Wendover, Nevada; and

(e) Potential effects to the Area 7 mule deer herd and the mule deer migration corridor associated with the herd. The proposed project area is located in a mule deer migration corridor.

The BLM will utilize and coordinate the NEPA commenting process to help fulfill the public involvement process under Section 106 of the National Historic Preservation Act (16 U.S.C. 470f) as provided for in 36 CFR 800.2(d)(3). Native American tribal consultations will be conducted in accordance with policy, and tribal concerns will be given due consideration, including impacts on Indian trust assets. Federal, State, and local agencies, along with other stakeholders that may be interested or affected by the BLM's decision on this project are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501 and 43 CFR 3809.

Kenneth E. Miller,
District Manager, Elko District Office.

[FR Doc. 2012-17583 Filed 7-18-12; 8:45 am]

BILLING CODE 4310-HC-P